DEPARTMENT OF LABOR

Employment and Training Administration

Notice of Determinations Regarding Eligibility To Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of January 30, 2017 through June 2, 2017. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated;

AND (2(A) or 2(B) below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path:

(i) The sales or production, or both, of such firm, have decreased absolutely;

AND (ii and iii below)

(ii) (I) imports of articles or services like or directly competitive with articles produced or services supplied by such firm have increased OR

(II)(aa) imports of articles like or directly competitive with articles into which one or more component parts produced by such firm are directly incorporated, have increased; OR

(II)(bb) imports of articles like or directly competitive with articles which are produced directly using the services supplied by such firm, have increased; OR

(III) imports of articles directly incorporating one or more component parts produced outside the United States that are like or directly competitive with imports of articles incorporating one or more component parts produced by such firm have increased;

AND

(iii) the increase in imports described in clause (ii) contributed importantly to such workers' separation or threat of separation and to the decline in the sales or production of such firm; OR

(B) Shift in Production or Services to a Foreign Country Path OR Acquisition of Articles or Services from a Foreign Country Path:

(i)(I) there has been a shift by such workers' firm to a foreign country in the production of articles or the supply of services like or directly competitive with articles which are produced or services which are supplied by such firm; OR

(II) such workers' firm has acquired from a foreign country articles or services that are like or directly competitive with articles which are produced or services which are supplied by such firm;

AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) A significant number or proportion of the workers in the workers' firm or an appropriate subdivision of the firm have become totally or partially separated, or are threatened to become totally or partially separated;

AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4));

AND

(3) either—

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms Identified by the International Trade Commission

In order for an affirmative determination to be made for adversely affected workers in firms identified by the International Trade Commission and a certification issued regarding eligibility to apply for TAA, the group eligibility requirements of Section 222(e) of the Act (19 U.S.C. 2272(e)) must be met, by following criteria (1), (2), and (3) as follows:

(1) the workers' firm is publicly identified by name by the International Trade Commission as a member of a domestic industry in an investigation resulting in—

(A) An affirmative determination of serious injury or threat thereof under section 202(b)(1) of the Act (19 U.S.C. 2252(b)(1));

OR

(B) an affirmative determination of market disruption or threat thereof under section 421(b)(1) of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A));

AND

(2) the petition is filed during the 1-year period beginning on the date on which—

(A) A summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C) of paragraph (1) is published in the Federal Register;

AND

(3) the workers have become totally or partially separated from the workers' firm within—

(A) the 1-year period described in paragraph (2); OR

(B) not withstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
91,169 | Technicolor Creative Services USA, Inc., Technicolor USA, Inc., Production Services/Media Services | Burbank, CA | May 3, 2015.
91,169A | Accounting Principles (Formerly Ajilon Professional Staffing), Apple One Employment Services, Optimum Staffing, etc | Burbank, CA | November 20, 2014.
91,332 | Quantum Resources Recovery, Inc | Portland, OR | January 7, 2015.
91,481 | Banks Lumber Company, Labor Ready | Banks, OR | February 17, 2015.
91,673 | Climax Manufacturing Inc | Lowville, NY | April 6, 2015.
91,689 | Warm Springs Forest Products Industries | Warm Springs, OR | April 12, 2015.
91,713 | Roseburg Forest Products, Medium Density Fiberboard Division, Express Employment Professionals | Medford, OR | April 15, 2015.
91,793 | Pacific Cast Technologies, Inc., ATI Cast Products/Albany Ops, Allegheny Technologies Incorporated, etc | Albany, OR | May 9, 2015.
91,799 | Bushell Ribbon Corporation | Santa Fe Springs, CA | May 11, 2015.
91,812 | Trinity Tank Car, Inc., Plant #1019, Plant #1017/1110, and Plant #1194/1200, etc | Longview, TX | May 13, 2015.
91,812A | Trinity North American Freight Car, Inc., Trinity Rail Group, LLC, Trinity Industries, Inc., etc | Cartersville, GA | May 13, 2015.
91,812B | Trinity Tank Car, Inc., Trinity Rail Group, LLC, Trinity Industries, Inc., etc | Oklahoma City, OK | May 13, 2015.
91,884 | Kahlenberg Industries, Inc | Two Rivers, WI | June 6, 2015.
91,910 | WireCo World Group | St. Joseph, MO | June 13, 2015.
91,910A | WireCo World Group | Chillicothe, MO | June 13, 2015.
92,034 | TTM Technologies, Inc., ViaSystems, Forest Grove Operations, Kelly Services, Randstad | Forest Grove, OR | July 19, 2015.
92,046 | Blueprint Consulting Services | Irving, TX | July 22, 2015.
92,078 | Intel Corporation, Data Center Group, Intel Security Group, Internet of Things Group, etc | Rio Rancho, NM | August 1, 2015.
92,087 | Amsted Rail Company, Inc., Kelly Services, Accountemps and Office Team, Partners Personnel, etc | Granite City, IL | August 4, 2015.
92,116 | Eaton Corporation, Vehicle Group North America, Bartech | Belmond, IA | August 9, 2015.
92,239 | ArcelorMittal Steelton LLC, ArcelorMittal USA LLC, ArcelorMittal, S.A. | Steelton, PA | September 22, 2015.
92,298 | Brillion Iron Works, Grede Holdings LLC, Metaldyne Performance Group Inc., Accuride Corporation | Brillion, WI | October 5, 2015.
92,307 | A G Equipment Company | Broken Arrow, OK | October 5, 2015.
92,326 | Millwork Holdings Co., Inc., Oxford Collections, Li & Fung Limited | Gaffney, SC | October 14, 2015.
92,326A | Millwork Holdings Co., Inc.,, Oxford Collections, Li & Fung Limited, Winston Staffing, 24/Seven, etc | New York, NY | October 14, 2015.
92,365 | Safelite Glass Corp., Enfield Division, Safelite Group, Inc., Action Staffing Group | Enfield, NC | October 26, 2015.
92,426 | Enervest Employee Services, LLC, EnerVest, Ltd., Primoris Energy Services | Sonora, TX | November 16, 2015.
92,427 | John Crane, Inc., Smith Group | Cerritos, CA | November 16, 2015.
92,433 | Intel Corporation, Ocotillo Campus, Acculogic Inc., Advantest America Inc., etc | Chandler, AZ | November 18, 2015.
92,435 | Gardner Denver, Inc., Industrials Products | Manteca, CA | November 18, 2015.
92,438 | Consolidated Metco, Inc., Aerotek | Clackamas, OR | November 21, 2015.
92,453 | Garco Building Systems, NCI Group, Inc., NCI Building Systems, Inc., Manpower | Airway Heights, WA | November 29, 2015.
92,479 | The Doe Run Resources Corporation, Herculaneum Division, DR Acquisition Corp | Herculaneum, MO | December 8, 2015.
92,500 | Project place International AB, Planview, Inc | Austin, TX | December 20, 2015.
92,509 | Omak Forest Products, LLC, Omak Forest Products | Omak, WA | December 23, 2015.
92,510 | Magnetic Metals Corporation, Camden Division, Rowan Technologies Inc | Camden, NJ | December 28, 2015.
92,542 | Ardagh Glass Inc., Ardagh Holdings (UK) Ltd | Wilson, NC | January 9, 2016.
92,571 | Alliance Castings Company, LLC, Ohio Castings, America's Back Office Inc., America's Back Office Inc | Alliance, OH | January 5, 2016.
92,572 | Imperial Plastics, Inc., Express Employment | Mankato, MN | January 25, 2016.
92,578 | TMCO, Inc., Express Employment Professionals | Lincoln, NE | January 26, 2016.
92,602 | Nordson XALOY, Nordson Corporation, Bright Services, Manpower, and Aerotek | Pulaski, VA | February 2, 2016.
92,647 | Tri-Pro Forest Products, Inc., Integrated Personnel, Inc | Orofino, ID | February 2, 2016.
92,672 | Mayflower Vehicle Systems, LLC, Commercial Vehicle Group, Inc | Shadyside, OH | February 23, 2016.
92,699 | Mustang Survival Manufacturing, Inc., Mustang Survival Holdings, Inc., Manpower | Spencer, WV | March 3, 2016.
92,732 | Ross Mould LLC | Washington, PA | March 12, 2017.

The following certifications have been issued. The requirements of Section 222(a)(2)(B) (Shift in Production or Services to a Foreign Country Path or Acquisition of Articles or Services from a Foreign Country Path) of the Trade Act have been met.

TA-W No. | Subject firm | Location | Impact date
90,125 | Owens-Brockway Glass Container, Inc., Owens-Brockway Packaging, Inc., Owens-Illinois Group, Inc., etc | Oakland, CA | January 1, 2014.
90,324 | Embarq Management Company/United Telephone of Pennsylvania, Embarq Corporation, CenturyLink, Inc | Carlisle, PA | January 1, 2014.
91,284 | Ferus LP, Jenkins N2 Plant Division | Jenkins, KY | January 5, 2015.
91,314 | Exterran Energy Solutions, L.P., Production Equipment Division, Aerotek | Youngstown, OH | January 7, 2015.
91,325 | Mesabi Metallics Company LLC f/k/a Essar Steel Minnesota LLC, Essar Global Fund Limited, Express Employment Professionals, etc | Hibbing, MN | January 11, 2015.
91,359 | CA Technologies, Inc | Islandia, NY | January 15, 2015.
91,766 | Berwick Offray, LLC, CSS Industries, Inc., Blumenthal Lansing Company, LLC, TASC, Inc., etc | Lansing, IA | May 2, 2015.
91,777 | UTC Aerospace Systems, United Technology Corporation, Aerotek | Cleveland, OH | May 4, 2015.
91,811 | Sykes Enterprises, Incorporated, Customer Service Operations Division | Langhorne, PA | May 13, 2015.
91,814 | Weatherford ALS, Weatherford International | Longview, TX | May 13, 2015.
91,819 | Condor Flugdienst GmbH, Thomas Cook Group, Customer Service Division | Itasca, IL | May 17, 2015.
91,829 | Jive Software, Inc., Aerotek, Secure Talent, IT Motives, Teksystems, and Vitamin T | Portland, OR | May 19, 2015.
91,882 | SPX FLOW, Inc., FKA SPX Flow Technology, Adecco, Manpower, SGF Global, Remedy Staffing, etc | McKean, PA | June 6, 2015.
91,900 | Intel Corporation, Adobe Systems Inc., Advanced Technology Group Inc., etc | Hillsboro, OR | June 9, 2015.
91,915 | DST Brokerage Solutions, DST Systems, Inc., DST Technologies | Baltimore, MD | June 13, 2015.
91,915A | DST Systems, Inc | Kansas City, MO | December 13, 2015.
91,915B | Kelly Services, Working On-Site at DST Systems, Inc | Kansas City, MO | June 13, 2015.
91,934 | Whirlpool Corporation, St. Joseph Tech Center | St. Joseph, MI | June 17, 2015.
91,955 | ARRIS Solutions, Inc., ARRIS Enterprises, Inc., ARRIS Technologies, Inc., ARRIS Group, etc | Beaverton, OR | June 23, 2015.
92,041 | Verizon Data Services, LLC, IT Quality Assurance, MTS Specialists III and IV | Colorado Springs, CO | July 21, 2015.
92,093 | Honeywell Aerospace, Aerospace Division | Phoenix, AZ | August 4, 2015.
92,093A | Honeywell Aerospace, Aerospace Division | Olathe, KS | August 4, 2015.
92,093B | Honeywell Aerospace, Aerospace Division | Albuquerque, NM | August 4, 2015.
92,093C | Honeywell Aerospace, Aerospace Division | Clearwater, FL | August 4, 2015.
92,093D | Honeywell Aerospace, Aerospace Division | Torrance, CA | August 4, 2015.
92,093E | Honeywell Aerospace, Aerospace Division | Tucson, AZ | August 4, 2015.
92,093F | Honeywell Aerospace, Aerospace Division | Urbana, OH | August 4, 2015.
92,102 | Cameron, Surface Division, Elwood Staffing | Oklahoma City, OK | August 9, 2015.
92,121 | NCR Corporation, Call Center, Abacus Service Corporation, Aquent LLC, etc | Duluth, GA | July 20, 2015.
92,124 | PanJit Americas, Inc | Tempe, AZ | August 18, 2015.
92,226 | Hewlett Packard Enterprise Services, Service Request Management Division, Hewlett Packard Enterprise, HP, Inc | Pontiac, MI | September 19, 2015.
92,254 | Mondelez Global LLC | San Antonio, TX | September 27, 2015.
92,257 | Hewlett Packard Enterprise, Sales Strategy and Operations Division, Hewlett Packard, Inc | Conway, AR | September 27, 2015.
92,292 | Hewlett Packard Enterprise, Global Real Estate | Colorado Springs, CO | October 3, 2015.
92,310 | Martinrea Hot Stampings, Inc | Detroit, MI | October 3, 2015.
92,331 | State Street Corporation, Global Trade Processing Group | Kansas City, MO | October 17, 2015.
92,334 | State Street Corporation, Labor Analytics Group | Kansas City, MO | October 17, 2015.
92,334A | State Street Corporation, Labor Analytics Group | Boston, MA | October 17, 2015.
92,374 | AdvanTec Manufacturing USA, Inc., B & M Miller Equity Holdings, Freeman Marine Equipment, Inc | Gold Beach, OR | October 27, 2015.
92,375 | Hewlett Packard Enterprise, Enterprise Storage Division, etc | Charlotte, NC | October 27, 2015.
92,391 | Cambia Health Solutions, Inc., Membership Department and Claims Department | Portland, OR | November 3, 2015.
92,397 | Lumileds LLC, Royal Philips, Production and Marketing Departments | San Jose, CA | November 4, 2015.
92,397A | Adecco Working On-Site at Lumileds LLC, Royal Philips, Production and Marketing Departments | San Jose, CA | November 4, 2015.
92,410 | GM Lordstown Stamping, General Motors Company, Development Dimensions International | Warren, OH | November 9, 2015.
92,410A | GM Lordstown Stamping, General Motors Company, Development Dimensions International | Warren, OH | November 9, 2015.
92,428 | Smith International, Inc., Schlumberger | Ponca City, OK | November 17, 2015.
92,429 | CDC Corporation (also known as Conwed), Owens Corning | Ladysmith, WI | November 16, 2015.
92,431 | Computer Sciences Corporation, Austin Facility, Finance and Accounting, Hire Strategy, Inc., etc | Austin, TX | November 18, 2015.
92,432 | Blue Sea Systems, Inc., Express Employment Professionals and Manpower | Bellingham, WA | November 17, 2015.
92,440 | LexisNexis, Case Law Operations Division, Reed Elsevier, PLC. and RELX, Inc., Allegis | Colorado Springs, CO | November 21, 2015.
92,444 | Anthelio Healthcare Solutions, Medical Coding Services Division, Atos IT Solutions and Services, Atos | Dallas, TX | November 14, 2015.
92,465 | GE Inspection Technologies, A Division of GE Oil & Gas, Kelly Services | Lewistown, PA | December 5, 2015.
92,466 | Cypress Semiconductor Corporation, Oxford Global Resources | Portland, OR | December 6, 2015.
92,471 | FCR, Aerotek | Independence, OR | December 7, 2015.
92,473 | International Business Machines Corporation (IBM), Global Technology Services (GTS), QRDA Department | Armonk, NY | December 7, 2015.
92,480 | Thermo Fisher Scientific, US Financial Shared Services Business Unit | West Palm Beach, FL | December 9, 2015.
92,486 | Hewlett Packard Enterprise, ES Apps Delivery Services Division | Portland, OR | December 12, 2015.
92,487 | Carl Zeiss Meditec, Inc., Carl Zeiss AG, Randstad, Briand Executive Search, Network Executive, etc | Dublin, CA | November 30, 2015.
92,494A | Health Care Service Corporation, Operations Support Services Division, Small Group Service Operation, etc | Richardson, TX | December 16, 2015.
92,496 | Stanrail, Division of Roll Form Group, Inc., Samuel & Sons Company, Express, etc | Gary, IN | December 15, 2015.
92,497 | Marge Carson, Inc., LaBarge Family Trust, Protech Staffing Services, Staffmark | Pomona, CA | December 16, 2015.
92,502 | Interlectric Corporation, Nefglo Products Division, Intervestment Corporation | Warren, PA | December 21, 2015.
92,508 | Thermo Fisher Scientific, Customer Channels Group (CCG) Finance Division, Adecco | Pittsburgh, PA | December 27, 2015.
92,515 | Aeroflex/Metelics, Inc., MACOM Technology Solutions Holdings, Inc., etc | Sunnyvale, CA | January 3, 2016.
92,521 | Capgemini America, Inc., Infra Business Unit, Operations Group, Capgemini North America, Inc., etc | Marlborough, MA | January 4, 2016.
92,522 | Sprint Corporation, Business Wireless Billing Support | Irving, TX | January 4, 2016.
92,522A | Sprint Corporation, Business Wireless Billing Support | Atlanta, GA | January 4, 2016.
92,523 | Xerox, Xerox Technology, Collections Units, Customer Care Inquiry Units, etc | Lewisville, TX | January 4, 2016.
92,524 | Mattoon Lamp Plant, Division of General Electric Lighting | Mattoon, IL | January 4, 2016.
92,530 | General Electric LLC, Lexington Lamp Plant, Lamp Division, GE Lighting | Lexington, KY | January 5, 2016.
92,533 | GM Detroit Hamtramck Assembly and GMSM LLC, General Motors, Development Dimensions International | Detroit, MI | January 6, 2016.
92,535 | Hoffman Inc., Pentair, Staff Management | Anoka, MN | January 6, 2016.
92,536 | The Timken Company, Randstand Pulaski, Staffmark, Quality Service Group, PIC, and Aerotek | Pulaski, TN | January 6, 2016.
92,539 | Weather-Rite LLC, Specified Air Solutions, Montu Staffing and Indrotec | Minneapolis, MN | January 9, 2016.
92,544 | Hewlett Packard Enterprises, ES Finance Division | Colorado Springs, CO | January 10, 2016.
92,548 | Daniel Measurement and Control, Inc., Emerson Electric, Inc., G.A.S. Unlimited and CDI Corporation | Houston, TX | January 11, 2016.
92,556 | HCL America, Inc., ERS Division, HCL Technologies Ltd., HCL Bermuda Ltd., and Axon Group Ltd | Framingham, MA | January 13, 2016.
92,557 | Siemens Government Technologies, Inc., D/B/A Dresser Rand, Superior Workforce Solutions, Inc | Wellsville, NY | June 5, 2017.
92,558 | New York Life Insurance Company, Technology Division, Abrams Security Group, LLC, EWG Solutions, Inc., etc | Alpharetta, GA | January 17, 2016.
92,559 | Ocwen Financial Corporation, Ocwen Loan Servicing (OLS), Kelly Vendor Management Services (KVMS) | Fort Washington, PA | January 17, 2016.
92,560 | APP USA Winddown, LLC (f/k/a American Apparel (USA), LLC), APP Winddown, LLC, American Apparel, LLC, APP Shipping Winddown, Inc., etc | Los Angeles, CA | January 17, 2016.
92,560A | APP USA Winddown, LLC (f/k/a American Apparel (USA), LLC), APP Winddown, LLC, American Apparel, LLC, APP Shipping Winddown, Inc., etc | Garden Grove, CA | January 17, 2016.
92,560B | APP USA Winddown, LLC (f/k/a American Apparel (USA), LLC), APP Winddown, LLC, American Apparel, LLC, APP Shipping Winddown, Inc., etc | South Gate, CA | January 17, 2016.
92,560C | APP USA Winddown, LLC (f/k/a American Apparel (USA), LLC), APP Winddown, LLC, American Apparel, LLC, APP Shipping Winddown, Inc., etc | La Mirada, CA | January 17, 2016.
92,560D | APP USA Winddown, LLC (f/k/a American Apparel (USA), LLC), APP Winddown, LLC, American Apparel, LLC, APP Shipping Winddown, Inc., etc | Hawthorne, CA | January 17, 2016.
92,561 | Metglas, Inc., Hitachi Metals America, Ltd., Manpower | Conway, SC | November 25, 2016.
92,562 | EmblemHealth Services Company, LLC, EmblemHealth, Inc., 441 9th Avenue | New York, NY | January 19, 2016.
92,562A | EmblemHealth Services Company, LLC, EmblemHealth, Inc | Melville, NY | January 19, 2016.
92,562B | EmblemHealth Services Company, LLC, EmblemHealth, Inc | Hollywood, FL | January 19, 2016.
92,562C | EmblemHealth Services Company, LLC, EmblemHealth, Inc., 55 Water Street | New York, NY | January 19, 2016.
92,563 | Mersen USA Newburyport-MA LLC, Mersen USA BN Corporation | El Paso, TX | January 20, 2016.
92,568 | General Electric Lighting, Circleville Lamp Plant | Circleville, OH | January 24, 2016.
92,569 | Triumph Composite Systems, Inc., A Division of Triumph Group | Spokane, WA | May 20, 2017.
92,570 | The Bank of New York Mellon, Custody Reporting Department, The Bank of New York Mellon Corporation | Brooklyn, NY | January 24, 2016.
92,573 | Koos Manufacturing, Inc | South Gate, CA | January 25, 2016.
92,575 | Hewlett Packard Enterprise, Human Resources Division | Colorado Springs, CO | January 25, 2016.
92,576 | Surgical Specialties Puerto Rico, Inc., Angiotech Pharmaceuticals, Kelly Services | Aguadilla, PR | June 5, 2017.
92,577 | UTC Fire & Security Americas Corporation, Inc., Arden Hills Site, Aerotek, Adecco, Randstad, and HCL | Arden Hills, MN | January 26, 2016.
92,579 | Emerson & Cuming Microwave Products, Inc., Laird Technologies, Inc., Kelly Services, Benskin & Hott, and Manpower | Randolph, MA | January 26, 2016.
92,580 | Bose Corporation, Corporate Information Services (CIS), Randstad, etc | Stow, MA | January 26, 2016.
92,582 | Codan US Corporation | Santa Ana, CA | January 26, 2016.
92,584 | GSI Group, LLC, Grain Division, AGCO Corporation, Resource MFG, Manpower, and Aerotek | Assumption, IL | January 26, 2016.
92,585 | MediaOcean LLC, Quality Assurance Division | New York, NY | January 26, 2016.
92,586 | Cargill, Inc., Strategic Sourcing & Procurement Team, SGS Consulting, etc | Blair, NE | January 26, 2016.
92,599 | M&G DuraVent, M&G Group, Westaff, Manpower and Adecco | Albany, NY | February 1, 2016.
92,600 | IDEX MPT, Inc., D.B.A. The Fitzpatrick Company, IDEX Corporation | Elmhurst, IL | February 2, 2016.
92,606 | Hewlett Packard Enterprise, ES-Finance Operations (ESFO), Hewlett Packard | Cerritos, CA | February 2, 2016.
92,608 | First Advantage Background Services Corporation, First Advantage Corporation | Indianapolis, IN | February 3, 2016.
92,610 | Ericsson, Inc., Business Unit IT Cloud Products, Fusion, HCL America, Inc., etc | Santa Clara, CA | February 5, 2016.
92,615 | MTBC Acquisition Corporation, Medical Transcription Billing Corporation, Randstad Professionals | Somerset, NJ | February 6, 2016.
92,619 | FormSolver, Inc. dba Framatic Co., MCS Industries | Los Angeles, CA | February 6, 2016.
92,620 | Novartis Pharmaceutical Corporation, Novartis Institutes for Biomedical Research (NIBR) Group, etc | East Hanover, NJ | February 7, 2016.
92,622 | Pfizer? Rouses Point, Pfizer Global Supply, Atrium | Rouses Point, NY | April 17, 2017.
92,624 | HUBS, Inc., Hubbell Incorporated (Delaware), Finance Department, Hubbell Incorporated, Hamilton Connections | Shelton, CT | February 7, 2016.
92,630 | ITW Powertrain Components, Powertrain Components, ITW, Kelly Services, Manpower, etc | Mazon, IL | February 7, 2016.
92,632 | Digital River, Inc., Siris Capital Group, Aeries Technology, Cybage, SITEL, and AIM Consulting | Minnetonka, MN | February 8, 2016.
92,633 | International Business Machines Corporation (IBM), XE54 and HXEA Departments, Global Technology Services (GTS) Division | Lexington, KY | February 8, 2016.
92,634 | Seagate Technology, Randstad | Shakopee, MN | February 10, 2016.
92,634A | Seagate Technology, Randstad and Tek Systems, Inc | Longmont, CO | February 10, 2016.
92,635 | Ericsson, Inc., Business Unit IT & Cloud Products, Fusion, HCL America Inc., etc | San Jose, CA | February 10, 2016.
92,639 | Jabil Circuit, Inc., Nypro Inc., Fountain Group LLC, Adecco, Ortho-Clinical Diagnostics, Inc | Rochester, NY | February 14, 2016.
92,643 | Merck Sharp &amp; Dohme Corporation, Merck & Co., Inc., Merck Research Laboratories Division, etc | Rahway, NJ | February 8, 2016.
92,644 | Luvo USA, LLC, Luvo, Inc | Schaumburg, IL | February 14, 2016.
92,645 | Merck Sharp & Dohme Corporation, Merck & Co., Inc., Merck Research Laboratories Division, etc | Kenilworth, NJ | February 15, 2016.
92,646 | International Business Machines Corporation (IBM), LHHC and QZ9C Departments, Global Technology Services (GTS), etc | Poughkeepsie, NY | February 15, 2016.
92,650 | KEMET Electronics Corporation, Tantalum, KEMET Corporation, Phillips Staffing | Simpsonville, SC | February 16, 2016.
92,652 | Technicolor, Technicolor, Inc., Home Entertainment Services Division, Select Staffing | Camarillo, CA | February 17, 2016.
92,653 | TAB Products Co. LLC, Accounting, T Acquisition LP | Mayville, WI | February 17, 2016.
92,653A | TAB Products Co. LLC, California Technology Support, T Acquisition LP | Mayville, WI | February 17, 2016.
92,653B | TAB Products Co. LLC, Human Resources, T Acquisition LP | Mayville, WI | February 17, 2016.
92,654 | Thomson Reuters, Pontoon | Hauppauge, NY | February 17, 2016.
92,654A | Thomson Reuters, Pontoon | Nutley, NJ | February 17, 2016.
92,655 | J.C. Penney Corporation, Inc., Information Technology Services, J.C. Penney Company, Inc., TCS | Plano, TX | February 17, 2016.
92,659 | LedVance LLC, OSRAM Sylvania Inc., Lamp Division, Remedy, Manpower and Aerotek | Versailles, KY | February 20, 2016.
92,660 | International Business Machines Corporation (IBM), TTS Department W14B, Global Technology Services (GTS) Division, etc | Hillsboro, OR | February 21, 2016.
92,662 | TechInsights USA, Inc., Teardown.Com Division, TechInsights (Holdco) Limited | Austin, TX | February 21, 2016.
92,667 | NetApp, Inc., Integrated Facilities Management & Datacenter Lab | Cranberry Township, PA | February 22, 2016.
92,669 | International Business Machines Corporation (IBM), Enterprise Automation Distributed Systems (EADS), etc | Cambridge, MA | February 23, 2016.
92,670 | International Business Machines Corporation (IBM), Security? Cross Service Line Department, Global Technology Services (GTS) | Sterling Forrest, NY | February 23, 2016.
92,671 | MACOM, Adecco, Top Echelon, Express Employment Professionals | Ithaca, NY | February 22, 2016.
92,675 | TE Connectivity, Tyco Electronics, Howard A. Schaevitz Technologies, Inc., etc | Pennsauken, NJ | February 15, 2016.
92,676 | Suniva, Inc., Trillium Staffing Solutions | Saginaw, MI | February 24, 2016.
92,677 | Philips Lighting North America Corp., Philips Lighting | Salina, KS | February 24, 2016.
92,679 | B/E Aerospace, Inc., CAS-Refrigeration Products, Kimco Staffing, AnDek Staffing Services, etc | Anaheim, CA | February 24, 2016.
92,682 | Via Christi Health, Inc., Ascension Health, Revenue Cycle, 8200 E. Thorn Drive | Wichita, KS | February 24, 2016.
92,682A | Via Christi Hospital Pittsburgh, Inc., Via Christi Health, Inc., Revenue Cycle | Pittsburgh, KS | February 24, 2016.
92,682B | Via Christi Hospital Manhattan, Inc., Via Christi Health, Inc., Revenue Cycle | Manhattan, KS | February 24, 2016.
92,682C | Via Christi Hospital Wichita, Inc., Via Christi Health, Inc., Revenue Cycle, 3600 E. Harry | Wichita, KS | February 24, 2016.
92,682D | Via Christi Hospital Wichita, Inc., Via Christi Health, Inc., Revenue Cycle, 929 N. St. Francis | Wichita, KS | February 24, 2016.
92,684 | ASG Technologies Group, Inc | Naples, FL | February 24, 2016.
92,687 | Mo Bio Laboratories, Inc., Qiagen North America Holdings, Inc., Adecco Medical & Science, etc | Carlsbad, CA | February 28, 2016.
92,688 | Core Pharma, Impax Laboratories, Aerotek, Spectrum Staffing Services, and Volt Workforce | Middlesex, NJ | February 28, 2016.
92,691 | International Business Machines Corporation (IBM), X9LA Department, Security Services 8F Division, etc | Poughkeepsie, NY | March 1, 2016.
92,692 | Travelport, LP, Travelport Worldwide Limited, Tata Consultancy Services, GTS Staffing | Kansas City, MO | March 1, 2016.
92,693 | International Business Machines Corporation (IBM), IBM Global Engagements, Global Technology Services (GTS)/TSS | Southbury, CT | March 2, 2016.
92,702 | First Data Resources LLC, Omaha IT Technology, First Data Corporation, Accenture, Adecco, etc | Omaha, NE | March 6, 2016.
92,703 | DAYCO Products, LLC, Global Belt Operations | Walterboro, SC | March 6, 2016.
92,704 | Intri-Plex Technologies, Inc., MMI Precision Technologies, Inc., Volt, Select Staffing | Goleta, CA | March 7, 2016.
92,706 | Continental Casualty Company, East Territory Clerical Ops. Claim-Financial & Operations Support, etc | Brea, CA | March 7, 2016.
92,707 | Hewlett Packard Enterprise, Sales Operations Division | Conway, AR | March 7, 2016.
92,712 | KNECT365 US, INC | New York, NY | March 9, 2016.
92,714 | TBMC, Megadyne America, Jason Industrial, Crown Services, and SC Vocational, etc | Greenville, SC | March 9, 2016.
92,715 | PaperWorks Industries, Inc., Aerotek, FirstPRO Inc., and The Judge Group | Philadelphia, PA | March 9, 2016.
92,720 | Sweda Company LLC, Data Entry Group, Select Staffing | City of Industry, CA | March 10, 2016.
92,724 | Intel Corporation, Santa Clara Campus, Sales and Marketing Information Technology (SMIT) Group | Santa Clara, CA | March 13, 2016.
92,729 | Avalon Laboratories, LLC, Avalon Holding Ltd., Nordson Corporation | Rancho Dominguez, CA | March 14, 2016.
92,733 | Parker Hannifin Corporation, Industrial Hose Products, Kimco Staffing Solutions | South Gate, CA | March 14, 2016.
92,734 | MoneyGram International, Accountemps, Agile Enterprise Solutions, Inc., Apex Systems, Inc., etc | Frisco, TX | March 14, 2016.
92,736 | Holland, Inc., Corporate Inside Sales Department, YRC Worldwide, Inc. | Holland, MI | March 14, 2016.
92,738 | International Business Machines Corporation (IBM), Department QZ9A, Global Technology Services (GTS) Division, etc | Costa Mesa, CA | March 16, 2016.
92,741 | Pacific Gas and Electric Co., Information Technology Department, Agile 1 | San Francisco, CA | March 16, 2016.
92,743 | American Technical Ceramics Corporation, AVX Corporation | Huntington, NY | September 4, 2016.
92,745 | Arrow International, Global Procurement, Teleflex Medical | Reading, PA | March 20, 2016.
92,745A | Teleflex, Global Procurement, Teleflex Medical | Morrisville, NC | March 20, 2016.
92,748 | Marland Mold, Inc | Pittsfield, MA | March 16, 2016.
92,750 | Cooper Standard Automotive, Goldsboro, Mega Force | Goldsboro, NC | February 22, 2016.
92,752 | Coriant Operations, Inc., Coriant North America, LLC, Tellabs DO Brasil LTDA, etc | Naperville, IL | March 21, 2016.
92,753 | American Technical Ceramics, MLC Production, Remedy Staffing Agency, Randstad USA | Jacksonville, FL | March 16, 2016.
92,759 | Roche Diagnostics, US Standardization Group | Indianapolis, IN | March 20, 2016.
92,760 | Fiserv Solutions, LLC, Digital Banking Group (DBG), Fiserv, Inc., Randstad Sourceright, etc | Hillsboro, OR | March 24, 2016.
92,760A | Fiserv Solutions, LLC, Enterprise Technology Group (ETG), Fiserv, Inc., Randstad Sourceright, etc | Hillsboro, OR | March 24, 2016.
92,765 | Honeywell International, Inc., S&PS Advanced Technology Center of Excellence | Golden Valley, MN | March 27, 2016.
92,765A | Honeywell International, Inc., S&PS Advanced Technology Center of Excellence | Plymouth, MN | March 27, 2016.
92,774 | Ernst & Young LLP, Unemployment Insurance Claims | Dallas, TX | March 29, 2016.
92,776 | IHI E&C International Corporation, IHI Inc., IHI Corporation, NES Global Talent, Orcus Fire & Risk, Inc | Houston, TX | March 30, 2016.
92,780 | SV Probe, Ellipsiz LTD, SV TCL Division, Research & Development Department | Tempe, AZ | March 31, 2016.
92,805 | Nielsen, A.C. Nielsen Company, LLC, Adecco, Insight Global | Green Bay, WI | April 6, 2016.
92,811 | Power Probe Inc | Brea, CA | April 10, 2016.
92,816 | MGT Industries, Inc., Pattern Making Group | Los Angeles, CA | April 11, 2016.
92,818 | Crissair, Inc., ESCO Technologies Holding LLC, Amtec, Quantum Staffing, etc | Valencia, CA | April 12, 2016.
92,822 | SAF-HOLLAND, Inc., Holland Operations, SAF-HOLLAND, Inc., Manpower | Holland, MI | April 12, 2016.
92,845 | Diodes FabTech Inc., Diodes Incorporated, Bell & Associates, Aerotek, Elwood Staffing, etc | Lee's Summit, MO | April 26, 2016.
92,853 | International Business Machines Corporation (IBM), V88B/NC0A Astellas Project Office, Global Technology Services (GTS), etc | Chicago, IL | April 27, 2016.
92,855 | Pochet of America, Inc., Pochet SAS, Express Employment Professionals | Wayne, NJ | April 27, 2016.
92,890 | International Business Machines Corporation (IBM), 1WUA NA Channel Operations, Global Markets Organization | Littleton, MA | May 11, 2016.

The following certifications have been issued. The requirements of Section 222(b) (supplier to a firm whose workers are certified eligible to apply for TAA) of the Trade Act have been met.

TA-W No. | Subject firm | Location | Impact date
90,125 | Owens-Brockway Glass Container, Inc., Owens-Brockway Packaging, Inc., Owens-Illinois Group, Inc., etc | Oakland, CA | January 1, 2014.
90,324 | Embarq Management Company/United Telephone of Pennsylvania, Embarq Corporation, CenturyLink, Inc | Carlisle, PA | January 1, 2014.
91,284 | Ferus LP, Jenkins N2 Plant Division | Jenkins, KY | January 5, 2015.
91,314 | Exterran Energy Solutions, L.P., Production Equipment Division, Aerotek | Youngstown, OH | January 7, 2015.
91,325 | Mesabi Metallics Company LLC f/k/a Essar Steel Minnesota LLC, Essar Global Fund Limited, Express Employment Professionals, etc | Hibbing, MN | January 11, 2015.
91,359 | CA Technologies, Inc | Islandia, NY | January 15, 2015.
91,766 | Berwick Offray, LLC, CSS Industries, Inc., Blumenthal Lansing Company, LLC, TASC, Inc., etc | Lansing, IA | May 2, 2015.
91,777 | UTC Aerospace Systems, United Technology Corporation, Aerotek | Cleveland, OH | May 4, 2015.
91,811 | Sykes Enterprises, Incorporated, Customer Service Operations Division | Langhorne, PA | May 13, 2015.
91,814 | Weatherford ALS, Weatherford International | Longview, TX | May 13, 2015.
91,819 | Condor Flugdienst GmbH, Thomas Cook Group, Customer Service Division | Itasca, IL | May 17, 2015.
91,829 | Jive Software, Inc., Aerotek, Secure Talent, IT Motives, Teksystems, and Vitamin T | Portland, OR | May 19, 2015.
91,882 | SPX FLOW, Inc., FKA SPX Flow Technology, Adecco, Manpower, SGF Global, Remedy Staffing, etc | McKean, PA | June 6, 2015.
91,900 | Intel Corporation, Adobe Systems Inc., Advanced Technology Group Inc., etc | Hillsboro, OR | June 9, 2015.
91,915 | DST Brokerage Solutions, DST Systems, Inc., DST Technologies | Baltimore, MD | June 13, 2015.
91,915A | DST Systems, Inc | Kansas City, MO | December 13, 2015.
91,915B | Kelly Services, Working On-Site at DST Systems, Inc | Kansas City, MO | June 13, 2015.
91,934 | Whirlpool Corporation, St. Joseph Tech Center | St. Joseph, MI | June 17, 2015.
91,955 | ARRIS Solutions, Inc., ARRIS Enterprises, Inc., ARRIS Technologies, Inc., ARRIS Group, etc | Beaverton, OR | June 23, 2015.
92,041 | Verizon Data Services, LLC, IT Quality Assurance, MTS Specialists III and IV | Colorado Springs, CO | July 21, 2015.
92,093 | Honeywell Aerospace, Aerospace Division | Phoenix, AZ | August 4, 2015.
92,093A | Honeywell Aerospace, Aerospace Division | Olathe, KS | August 4, 2015.
92,093B | Honeywell Aerospace, Aerospace Division | Albuquerque, NM | August 4, 2015.
92,093C | Honeywell Aerospace, Aerospace Division | Clearwater, FL | August 4, 2015.
92,093D | Honeywell Aerospace, Aerospace Division | Torrance, CA | August 4, 2015.
92,093E | Honeywell Aerospace, Aerospace Division | Tucson, AZ | August 4, 2015.
92,093F | Honeywell Aerospace, Aerospace Division | Urbana, OH | August 4, 2015.
92,102 | Cameron, Surface Division, Elwood Staffing | Oklahoma City, OK | August 9, 2015.
92,121 | NCR Corporation, Call Center, Abacus Service Corporation, Aquent LLC, etc | Duluth, GA | July 20, 2015.
92,124 | PanJit Americas, Inc | Tempe, AZ | August 18, 2015.
92,226 | Hewlett Packard Enterprise Services, Service Request Management Division, Hewlett Packard Enterprise, HP, Inc | Pontiac, MI | September 19, 2015.
92,254 | Mondelez Global LLC | San Antonio, TX | September 27, 2015.
92,257 | Hewlett Packard Enterprise, Sales Strategy and Operations Division, Hewlett Packard, Inc | Conway, AR | September 27, 2015.
92,292 | Hewlett Packard Enterprise, Global Real Estate | Colorado Springs, CO | October 3, 2015.
92,310 | Martinrea Hot Stampings, Inc | Detroit, MI | October 3, 2015.
92,331 | State Street Corporation, Global Trade Processing Group | Kansas City, MO | October 17, 2015.
92,334 | State Street Corporation, Labor Analytics Group | Kansas City, MO | October 17, 2015.
92,334A | State Street Corporation, Labor Analytics Group | Boston, MA | October 17, 2015.
92,374 | AdvanTec Manufacturing USA, Inc., B & M Miller Equity Holdings, Freeman Marine Equipment, Inc | Gold Beach, OR | October 27, 2015.
92,375 | Hewlett Packard Enterprise, Enterprise Storage Division, etc | Charlotte, NC | October 27, 2015.
92,391 | Cambia Health Solutions, Inc., Membership Department and Claims Department | Portland, OR | November 3, 2015.
92,397 | Lumileds LLC, Royal Philips, Production and Marketing Departments | San Jose, CA | November 4, 2015.
92,397A | Adecco Working On-Site at Lumileds LLC, Royal Philips, Production and Marketing Departments | San Jose, CA | November 4, 2015.
92,410 | GM Lordstown Stamping, General Motors Company, Development Dimensions International | Warren, OH | November 9, 2015.
92,410A | GM Lordstown Stamping, General Motors Company, Development Dimensions International | Warren, OH | November 9, 2015.
92,428 | Smith International, Inc., Schlumberger | Ponca City, OK | November 17, 2015.
92,429 | CDC Corporation (also known as Conwed), Owens Corning | Ladysmith, WI | November 16, 2015.
92,431 | Computer Sciences Corporation, Austin Facility, Finance and Accounting, HireStrategy, Inc., etc | Austin, TX | November 18, 2015.
92,432 | Blue Sea Systems, Inc., Express Employment Professionals and Manpower | Bellingham, WA | November 17, 2015.
92,440 | LexisNexis, Case Law Operations Division, Reed Elsevier, PLC. and RELX, Inc., Allegis | Colorado Springs, CO | November 21, 2015.
92,444 | Anthelio Healthcare Solutions, Medical Coding Services Division, Atos IT Solutions and Services, Atos | Dallas, TX | November 14, 2015.
92,465 | GE Inspection Technologies, A Division of GE Oil & Gas, Kelly Services | Lewistown, PA | December 5, 2015.
92,466 | Cypress Semiconductor Corporation, Oxford Global Resources | Portland, OR | December 6, 2015.
92,471 | FCR, Aerotek | Independence, OR | December 7, 2015.
92,473 | International Business Machines Corporation (IBM), Global Technology Services (GTS), QRDA Department | Armonk, NY | December 7, 2015.
92,480 | Thermo Fisher Scientific, US Financial Shared Services Business Unit | West Palm Beach, FL | December 9, 2015.
92,486 | Hewlett Packard Enterprise, ES Apps Delivery Services Division | Portland, OR | December 12, 2015.
92,487 | Carl Zeiss Meditec, Inc., Carl Zeiss AG, Randstad, Briand Executive Search, Network Executive, etc | Dublin, CA | November 30, 2015.
92,494A | Health Care Service Corporation, Operations Support Services Division, Small Group Service Operation, etc | Richardson, TX | December 16, 2015.
92,496 | Stanrail, Division of Roll Form Group, Inc., Samuel & Sons Company, Express, etc | Gary, IN | December 15, 2015.
92,497 | Marge Carson, Inc., LaBarge Family Trust, Protech Staffing Services, Staffmark | Pomona, CA | December 16, 2015.
92,502 | Interlectric Corporation, Nefglo Products Division, Intervestment Corporation | Warren, PA | December 21, 2015.
92,508 | Thermo Fisher Scientific, Customer Channels Group (CCG) Finance Division, Adecco | Pittsburgh, PA | December 27, 2015.
92,515 | Aeroflex/Metelics, Inc., MACOM Technology Solutions Holdings, Inc., etc | Sunnyvale, CA | January 3, 2016.
92,521 | Capgemini America, Inc., Infra Business Unit, Operations Group, Capgemini North America, Inc., etc | Marlborough, MA | January 4, 2016.
92,522 | Sprint Corporation, Business Wireless Billing Support | Irving, TX | January 4, 2016.
92,522A | Sprint Corporation, Business Wireless Billing Support | Atlanta, GA | January 4, 2016.
92,523 | Xerox, Xerox Technology, Collections Units, Customer Care Inquiry Units, etc | Lewisville, TX | January 4, 2016.
92,524 | Mattoon Lamp Plant, Division of General Electric Lighting | Mattoon, IL | January 4, 2016.
92,530 | General Electric LLC, Lexington Lamp Plant, Lamp Division, GE Lighting | Lexington, KY | January 5, 2016.
92,533 | GM Detroit Hamtramck Assembly and GMSM LLC, General Motors, Development Dimensions International | Detroit, MI | January 6, 2016.
92,535 | Hoffman Inc., Pentair, Staff Management | Anoka, MN | January 6, 2016.
92,536 | The Timken Company, Randstand Pulaski, Staffmark, Quality Service Group, PIC, and Aerotek | Pulaski, TN | January 6, 2016.
92,539 | Weather-Rite LLC, Specified Air Solutions, Montu Staffing and Indrotec | Minneapolis, MN | January 9, 2016.
92,544 | Hewlett Packard Enterprises, ES Finance Division | Colorado Springs, CO | January 10, 2016.
92,548 | Daniel Measurement and Control, Inc., Emerson Electric, Inc., G.A.S. Unlimited and CDI Corporation | Houston, TX | January 11, 2016.
92,556 | HCL America, Inc., ERS Division, HCL Technologies Ltd., HCL Bermuda Ltd., and Axon Group Ltd | Framingham, MA | January 13, 2016.
92,557 | Siemens Government Technologies, Inc., D/B/A Dresser Rand, Superior Workforce Solutions, Inc | Wellsville, NY | June 5, 2017.
92,558 | New York Life Insurance Company, Technology Division, Abrams Security Group, LLC, EWG Solutions, Inc., etc | Alpharetta, GA | January 17, 2016.
92,559 | Ocwen Financial Corporation, Ocwen Loan Servicing (OLS), Kelly Vendor Management Services (KVMS) | Fort Washington, PA | January 17, 2016.
92,560 | APP USA Winddown, LLC (f/k/a American Apparel (USA), LLC), APP Winddown, LLC, American Apparel, LLC, APP Shipping Winddown, Inc., etc | Los Angeles, CA | January 17, 2016.
92,560A | APP USA Winddown, LLC (f/k/a American Apparel (USA), LLC), APP Winddown, LLC, American Apparel, LLC, APP Shipping Winddown, Inc., etc | Garden Grove, CA | January 17, 2016.
92,560B | APP USA Winddown, LLC (f/k/a American Apparel (USA), LLC), APP Winddown, LLC, American Apparel, LLC, APP Shipping Winddown, Inc., etc | South Gate, CA | January 17, 2016.
92,560C | APP USA Winddown, LLC (f/k/a American Apparel (USA), LLC), APP Winddown, LLC, American Apparel, LLC, APP Shipping Winddown, Inc., etc | La Mirada, CA | January 17, 2016.
92,560D | APP USA Winddown, LLC (f/k/a American Apparel (USA), LLC), APP Winddown, LLC, American Apparel, LLC, APP Shipping Winddown, Inc., etc | Hawthorne, CA | January 17, 2016.
92,561 | Metglas, Inc., Hitachi Metals America, Ltd., Manpower | Conway, SC | November 25, 2016.
92,562 | EmblemHealth Services Company, LLC, EmblemHealth, Inc., 441 9th Avenue | New York, NY | January 19, 2016.
92,562A | EmblemHealth Services Company, LLC, EmblemHealth, Inc | Melville, NY | January 19, 2016.
92,562B | EmblemHealth Services Company, LLC, EmblemHealth, Inc | Hollywood, FL | January 19, 2016.
92,562C | EmblemHealth Services Company, LLC, EmblemHealth, Inc., 55 Water Street | New York, NY | January 19, 2016.
92,563 | Mersen USA Newburyport-MA LLC, Mersen USA BN Corporation | El Paso, TX | January 20, 2016.
92,568 | General Electric Lighting, Circleville Lamp Plant | Circleville, OH | January 24, 2016.
92,569 | Triumph Composite Systems, Inc., A Division of Triumph Group | Spokane, WA | May 20, 2017.
92,570 | The Bank of New York Mellon, Custody Reporting Department, The Bank of New York Mellon Corporation | Brooklyn, NY | January 24, 2016.
92,573 | Koos Manufacturing, Inc | South Gate, CA | January 25, 2016.
92,575 | Hewlett Packard Enterprise, Human Resources Division | Colorado Springs, CO | January 25, 2016.
92,576 | Surgical Specialties Puerto Rico, Inc., Angiotech Pharmaceuticals, Kelly Services | Aguadilla, PR | June 5, 2017.
92,577 | UTC Fire & Security Americas Corporation, Inc., Arden Hills Site, Aerotek, Adecco, Randstad, and HCL | Arden Hills, MN | January 26, 2016.
92,579 | Emerson & Cuming Microwave Products, Inc., Laird Technologies, Inc., Kelly Services, Benskin & Hott, and Manpower | Randolph, MA | January 26, 2016.
92,580 | Bose Corporation, Corporate Information Services (CIS), Randstad, etc | Stow, MA | January 26, 2016.
92,582 | Codan US Corporation | Santa Ana, CA | January 26, 2016.
92,584 | GSI Group, LLC, Grain Division, AGCO Corporation, Resource MFG, Manpower, and Aerotek | Assumption, IL | January 26, 2016.
92,585 | MediaOcean LLC, Quality Assurance Division | New York, NY | January 26, 2016.
92,586 | Cargill, Inc., Strategic Sourcing & Procurement Team, SGS Consulting, etc | Blair, NE | January 26, 2016.
92,599 | M&G DuraVent, M&G Group, Westaff, Manpower and Adecco | Albany, NY | February 1, 2016.
92,600 | IDEX MPT, Inc., D.B.A. The Fitzpatrick Company, IDEX Corporation | Elmhurst, IL | February 2, 2016.
92,606 | Hewlett Packard Enterprise, ES-Finance Operations (ESFO), Hewlett Packard | Cerritos, CA | February 2, 2016.
92,608 | First Advantage Background Services Corporation, First Advantage Corporation | Indianapolis, IN | February 3, 2016.
92,610 | Ericsson, Inc., Business Unit IT Cloud Products, Fusion, HCL America, Inc., etc | Santa Clara, CA | February 5, 2016.
92,615 | MTBC Acquisition Corporation, Medical Transcription Billing Corporation, Randstad Professionals | Somerset, NJ | February 6, 2016.
92,619 | FormSolver, Inc. dba Framatic Co., MCS Industries | Los Angeles, CA | February 6, 2016.
92,620 | Novartis Pharmaceutical Corporation, Novartis Institutes for Biomedical Research (NIBR) Group, etc | East Hanover, NJ | February 7, 2016.
92,622 | Pfizer? Rouses Point, Pfizer Global Supply, Atrium | Rouses Point, NY | April 17, 2017.
92,624 | HUBS, Inc., Hubbell Incorporated (Delaware), Finance Department, Hubbell Incorporated, Hamilton Connections | Shelton, CT | February 7, 2016.
92,630 | ITW Powertrain Components, Powertrain Components, ITW, Kelly Services, Manpower, etc | Mazon, IL | February 7, 2016.
92,632 | Digital River, Inc., Siris Capital Group, Aeries Technology, Cybage, SITEL, and AIM Consulting | Minnetonka, MN | February 8, 2016.
92,633 | International Business Machines Corporation (IBM), XE54 and HXEA Departments, Global Technology Services (GTS) Division | Lexington, KY | February 8, 2016.
92,634 | Seagate Technology, Randstad | Shakopee, MN | February 10, 2016.
92,634A | Seagate Technology, Randstad and Tek Systems, Inc | Longmont, CO | February 10, 2016.
92,635 | Ericsson, Inc., Business Unit IT & Cloud Products, Fusion, HCL America Inc., etc | San Jose, CA | February 10, 2016.
92,639 | Jabil Circuit, Inc., Nypro Inc., Fountain Group LLC, Adecco, Ortho-Clinical Diagnostics, Inc | Rochester, NY | February 14, 2016.
92,643 | Merck Sharp & Dohme Corporation, Merck & Co., Inc., Merck Research Laboratories Division, etc | Rahway, NJ | February 8, 2016.
92,644 | Luvo USA, LLC, Luvo, Inc | Schaumburg, IL | February 14, 2016.
92,645 | Merck Sharp & Dohme Corporation, Merck & Co., Inc., Merck Research Laboratories Division, etc | Kenilworth, NJ | February 15, 2016.
92,646 | International Business Machines Corporation (IBM), LHHC and QZ9C Departments, Global Technology Services (GTS), etc | Poughkeepsie, NY | February 15, 2016.
92,650 | KEMET Electronics Corporation, Tantalum, KEMET Corporation, Phillips Staffing | Simpsonville, SC | February 16, 2016.
92,652 | Technicolor, Technicolor, Inc., Home Entertainment Services Division, Select Staffing | Camarillo, CA | February 17, 2016.
92,653 | TAB Products Co. LLC, Accounting, T Acquisition LP | Mayville, WI | February 17, 2016.
92,653A | TAB Products Co. LLC, California Technology Support, T Acquisition LP | Mayville, WI | February 17, 2016.
92,653B | TAB Products Co. LLC, Human Resources, T Acquisition LP | Mayville, WI | February 17, 2016.
92,654 | Thomson Reuters, Pontoon | Hauppauge, NY | February 17, 2016.
92,654A | Thomson Reuters, Pontoon | Nutley, NJ | February 17, 2016.
92,655 | J.C. Penney Corporation, Inc., Information Technology Services, J.C. Penney Company, Inc., TCS | Plano, TX | February 17, 2016.
92,659 | LedVance LLC, OSRAM Sylvania Inc., Lamp Division, Remedy, Manpower and Aerotek | Versailles, KY | February 20, 2016.
92,660 | International Business Machines Corporation (IBM), TTS Department W14B, Global Technology Services (GTS) Division, etc | Hillsboro, OR | February 21, 2016.
92,662 | TechInsights USA, Inc., Teardown.Com Division, TechInsights (Holdco) Limited | Austin, TX | February 21, 2016.
92,667 | NetApp, Inc., Integrated Facilities Management & Datacenter Lab | Cranberry Township, PA | February 22, 2016.
92,669 | International Business Machines Corporation (IBM), Enterprise Automation Distributed Systems (EADS), etc | Cambridge, MA | February 23, 2016.
92,670 | International Business Machines Corporation (IBM), Security? Cross Service Line Department, Global Technology Services (GTS) | Sterling Forrest, NY | February 23, 2016.
92,671 | MACOM, Adecco, Top Echelon, Express Employment Professionals | Ithaca, NY | February 22, 2016.
92,675 | TE Connectivity, Tyco Electronics, Howard A. Schaevitz Technologies, Inc., etc | Pennsauken, NJ | February 15, 2016.
92,676 | Suniva, Inc., Trillium Staffing Solutions | Saginaw, MI | February 24, 2016.
92,677 | Philips Lighting North America Corp., Philips Lighting | Salina, KS | February 24, 2016.
92,679 | B/E Aerospace, Inc., CAS-Refrigeration Products, Kimco Staffing, AnDek Staffing Services, etc | Anaheim, CA | February 24, 2016.
92,682 | Via Christi Health, Inc., Ascension Health, Revenue Cycle, 8200 E. Thorn Drive | Wichita, KS | February 24, 2016.
92,682A | Via Christi Hospital Pittsburgh, Inc., Via Christi Health, Inc., Revenue Cycle | Pittsburgh, KS | February 24, 2016.
92,682B | Via Christi Hospital Manhattan, Inc., Via Christi Health, Inc., Revenue Cycle | Manhattan, KS | February 24, 2016.
92,682C | Via Christi Hospital Wichita, Inc., Via Christi Health, Inc., Revenue Cycle, 3600 E. Harry | Wichita, KS | February 24, 2016.
92,682D | Via Christi Hospital Wichita, Inc., Via Christi Health, Inc., Revenue Cycle, 929 N. St. Francis | Wichita, KS | February 24, 2016.
92,684 | ASG Technologies Group, Inc | Naples, FL | February 24, 2016.
92,687 | Mo Bio Laboratories, Inc., Qiagen North America Holdings, Inc., Adecco Medical & Science, etc | Carlsbad, CA | February 28, 2016.
92,688 | Core Pharma, Impax Laboratories, Aerotek, Spectrum Staffing Services, and Volt Workforce | Middlesex, NJ | February 28, 2016.
92,691 | International Business Machines Corporation (IBM), X9LA Department, Security Services 8F Division, etc | Poughkeepsie, NY | March 1, 2016.
92,692 | Travelport, LP, Travelport Worldwide Limited, Tata Consultancy Services, GTS Staffing | Kansas City, MO | March 1, 2016.
92,693 | International Business Machines Corporation (IBM), IBM Global Engagements, Global Technology Services (GTS)/TSS | Southbury, CT | March 2, 2016.
92,702 | First Data Resources LLC, Omaha IT Technology, First Data Corporation, Accenture, Adecco, etc | Omaha, NE | March 6, 2016.
92,703 | DAYCO Products, LLC, Global Belt Operations | Walterboro, SC | March 6, 2016.
92,704 | Intri-Plex Technologies, Inc., MMI Precision Technologies, Inc., Volt, Select Staffing | Goleta, CA | March 7, 2016.
92,706 | Continental Casualty Company, East Territory Clerical Ops. Claim-Financial & Operations Support, etc | Brea, CA | March 7, 2016.
92,707 | Hewlett Packard Enterprise, Sales Operations Division | Conway, AR | March 7, 2016.
92,712 | KNECT365 US, INC | New York, NY | March 9, 2016.
92,714 | TBMC, Megadyne America, Jason Industrial, Crown Services, and SC Vocational, etc | Greenville, SC | March 9, 2016.
92,715 | PaperWorks Industries, Inc., Aerotek, FirstPRO Inc., and The Judge Group | Philadelphia, PA | March 9, 2016.
92,720 | Sweda Company LLC, Data Entry Group, Select Staffing | City of Industry, CA | March 10, 2016.
92,724 | Intel Corporation, Santa Clara Campus, Sales and Marketing Information Technology (SMIT) Group | Santa Clara, CA | March 13, 2016.
92,729 | Avalon Laboratories, LLC, Avalon Holding Ltd., Nordson Corporation | Rancho Dominguez, CA | March 14, 2016.
92,733 | Parker Hannifin Corporation, Industrial Hose Products, Kimco Staffing Solutions | South Gate, CA | March 14, 2016.
92,734 | MoneyGram International, Accountemps, Agile Enterprise Solutions, Inc., Apex Systems, Inc., etc | Frisco, TX | March 14, 2016.
92,736 | Holland, Inc., Corporate Inside Sales Department, YRC Worldwide, Inc | Holland, MI | March 14, 2016.
92,738 | International Business Machines Corporation (IBM), Department QZ9A, Global Technology Services (GTS) Division, etc | Costa Mesa, CA | March 16, 2016.
92,741 | Pacific Gas and Electric Co., Information Technology Department, Agile 1 | San Francisco, CA | March 16, 2016.
92,743 | American Technical Ceramics Corporation, AVX Corporation | Huntington, NY | September 4, 2016.
92,745 | Arrow International, Global Procurement, Teleflex Medical | Reading, PA | March 20, 2016.
92,745A | Teleflex, Global Procurement, Teleflex Medical | Morrisville, NC | March 20, 2016.
92,748 | Marland Mold, Inc | Pittsfield, MA | March 16, 2016.
92,750 | Cooper Standard Automotive, Goldsboro, Mega Force | Goldsboro, NC | February 22, 2016.
92,752 | Coriant Operations, Inc., Coriant North America, LLC, Tellabs DO Brasil LTDA, etc | Naperville, IL | March 21, 2016.
92,753 | American Technical Ceramics, MLC Production, Remedy Staffing Agency, Randstad USA | Jacksonville, FL | March 16, 2016.
92,759 | Roche Diagnostics, US Standardization Group | Indianapolis, IN | March 20, 2016.
92,760 | Fiserv Solutions, LLC, Digital Banking Group (DBG), Fiserv, Inc., Randstad Sourceright, etc | Hillsboro, OR | March 24, 2016.
92,760A | Fiserv Solutions, LLC, Enterprise Technology Group (ETG), Fiserv, Inc., Randstad Sourceright, etc | Hillsboro, OR | March 24, 2016.
92,765 | Honeywell International, Inc., S&PS Advanced Technology Center of Excellence | Golden Valley, MN | March 27, 2016.
92,765A | Honeywell International, Inc., S&PS Advanced Technology Center of Excellence | Plymouth, MN | March 27, 2016.
92,774 | Ernst & Young LLP, Unemployment Insurance Claims | Dallas, TX | March 29, 2016.
92,776 | IHI E&C International Corporation, IHI Inc., IHI Corporation, NES Global Talent, Orcus Fire & Risk, Inc | Houston, TX | March 30, 2016.
92,780 | SV Probe, Ellipsiz LTD, SV TCL Division, Research & Development Department | Tempe, AZ | March 31, 2016.
92,805 | Nielsen, A.C. Nielsen Company, LLC, Adecco, Insight Global | Green Bay, WI | April 6, 2016.
92,811 | Power Probe Inc | Brea, CA | April 10, 2016.
92,816 | MGT Industries, Inc., Pattern Making Group | Los Angeles, CA | April 11, 2016.
92,818 | Crissair, Inc., ESCO Technologies Holding LLC, Amtec, Quantum Staffing, etc | Valencia, CA | April 12, 2016.
92,822 | SAF-HOLLAND, Inc., Holland Operations, SAF-HOLLAND, Inc., Manpower | Holland, MI | April 12, 2016.
92,845 | Diodes FabTech Inc., Diodes Incorporated, Bell & Associates, Aerotek, Elwood Staffing, etc | Lee's Summit, MO | April 26, 2016.
92,853 | International Business Machines Corporation (IBM), V88B/NC0A Astellas Project Office, Global Technology Services (GTS), etc | Chicago, IL | April 27, 2016.
92,855 | Pochet of America, Inc., Pochet SAS, Express Employment Professionals | Wayne, NJ | April 27, 2016.
92,890 | International Business Machines Corporation (IBM), 1WUA NA Channel Operations, Global Markets Organization | Littleton, MA | May 11, 2016.

The following certifications have been issued. The requirements of Section 222(b) (downstream producer to a firm whose workers are certified eligible to apply for TAA) of the Trade Act have been met.

TA-W No. | Subject firm | Location | Impact date
91,677 | VAM USA, LLC, Harry Road: Production, Field Services & R&D, Alliance Staffing, etc | Houston, TX | April 1, 2015.
91,677A | VAM USA, LLC, Miller Road: Production, Alliance Staffing, Janus Automation, LLC, etc | Houston, TX | April 1, 2015.
91,677B | VAM USA, LLC, Tubo North: Production, Alliance Staffing, Janus Automation, LLC, etc | Houston, TX | April 1, 2015.
91,677C | VAM USA, LLC, Youngstown: Production and Field Services, Alliance Staffing, etc | Youngstown, OH | April 1, 2015.
91,677D | VAM USA, LLC, Oklahoma: Field Services, Alliance Staffing, Janus Automation, LLC, etc | Oklahoma City, OK | April 1, 2015.
91,677E | VAM USA, LLC, Broussard: Field Services, Alliance Staffing, Janus Automation, LLC, etc | Broussard, LA | April 1, 2015.
91,677F | VAM USA, LLC, San Antonio: Field Services, Alliance Staffing, Janus Automation, LLC, etc | San Antonio, TX | April 1, 2015.
91,677G | VAM USA, LLC, Pittsburgh: Field Services, Alliance Staffing, Janus Automation, LLC, etc | Pittsburgh, PA | April 1, 2015.
92,488 | US Textiles Corporation, Sculptz, Inc., Phillip's Staffing | Heath Springs, SC | December 13, 2015.
92,709 | Stampede Forest Products, Inc | Omak, WA | March 8, 2016.

Negative Determinations for Worker Adjustment Assistance

In the following cases, the investigation revealed that the eligibility criteria for TAA have not been met for the reasons specified.

The investigation revealed that the requirements of Trade Act section 222 (a)(1) and (b)(1) (significant worker total/partial separation or threat of total/partial separation), or (e) (firms identified by the International Trade Commission), have not been met.

TA-W No. | Subject firm | Location | Impact date
91,148 | XPO Logistics, Inc., FKA Con-Way, Inc., 2055 NW 212st Avenue | Portland, OR |
91,148A | XPO Logistics CNW, Inc., FKA Con-Way, Inc., 2947 NW 127th Street | Portland, OR |
91,148B | XPO Logistics CNW, Inc., FKA Con-Way, Inc., Adtech II, 1717 NW 21st Avenue | Portland, OR |
91,148C | XPO Logistics, LLC, FKA Con-Way, Inc., 2055 NW Savier Street, XPO Logistics, Inc | Portland, OR |
91,148G | XPO Logistics Freight, Inc., UBD, 2545 Builders Circle | Bend, OR |
91,148H | XPO Logistics Freight, Inc., UEO, 3030 West 7th Place | Eugene, OR |
91,148I | XPO Logistics Worldwide, Inc., 3725 Crates Way | The Dalles, OR |
91,148J | XPO Logistics Freight, Inc., UMO, 375 Ice Cream Drive | Central Point, OR |
91,148K | XPO Logistics Freight, Inc., 1770 Laurel Place | Florence, OR |
91,148L | XPO Logistics Freight, Inc., 1770 Laurel Way | Florence, OR |
91,665 | BT Americas, Inc., Business to Business Network Service Group, BT United States LLC, etc | New York, NY |
92,155 | Hewlett Packard Enterprise Services, Labor Demand and Supply Services Division, HP, Inc | Plano, TX |
92,155A | Hewlett Packard Enterprise Services, Labor Demand and Supply Services Division, HP, Inc | Rio Rancho, NM |
92,323 | Cleveland Brothers Equipment Company, Inc., Cleveland Brothers Holdings, Inc., MDT Technical, JFC Temps, and Manpower | Pittston, PA |
92,460 | Stillwater Dispatch Inc | Kalispell, MT |
92,494 | Health Care Service Corporation, Benefit Booklets BPO-OK Department | Tulsa, OK |
92,518 | Fifth Third Bank, Global Financial Institutions, Fifth Third Bancorp | Coral Gables, FL |
92,590 | MUFG Union Bank, N.A., Operations and Process Excellent Group, Data Integrity Group, etc | Monterey Park, CA |
92,594 | Polycom Inc., Information Security Division, Kelly Services | Westminster, CO |
92,628 | Support.com, Inc | Redwood City, CA |

The investigation revealed that the criteria under paragraphs (a)(2)(A)(i) (decline in sales or production, or both),or (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
91,897 | Intel Corporation, Aloha Campus | Aloha, OR |
91,899 | Intel Corporation, Ronler Acres Campus | Hillsboro, OR |
91,901 | Intel Corporation, Jones Farm Campus | Hillsboro, OR |
92,156 | Saran Industries, LLC, Saran Holdings, LLC, Spartan Staffing and Essential Employment | Shelbyville, IN |
92,329 | Northern State Metals | Youngstown, OH |
92,346 | Textron Aviation Inc., Cessna Aircraft Company, Cessna Service Direct LLC, Hawker Beechcraft, etc. | Wichita, KS |
92,369 | Maxim Integrated Products, Inc., Kelly Services | Beaverton, OR |
92,394 | XALT Energy, LLC, Adecco and VP Total Solutions | Midland, MI |
92,433A | Intel Corporation, Chandler Campus | Chandler, AZ |
92,448 | Warn Industries, Inc., Powersystems, Automotive OEM Division, Express Professional | Milwaukie, OR |
92,550 | The Vanguard Group, Randstad | Scottsdale, AZ |
92,564 | HighWire Press, Inc., Content Services Division, Faichi Solutions LLC, Agilesoft Systems | Los Gatos, CA |
92,591 | MV Metal Products & Services, Premier Tool and Die Cast | Dowagiac, MI |
92,641 | NCI Group, Inc., ABC and MBCI Divisions, NCI Building Systems, Inc., Crown Staffing, etc. | Omaha, NE |

The investigation revealed that the criteria under paragraphs(a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
90,197 | Legacy Measurement Solutions, Inc., Express Employment Professionals | Bristow, OK |
90,233 | Miller Welding & Machine Company, 111 2nd Street, Spherion Staffing Agency | Brookville, PA |
90,319 | PPG Industries, Inc., Flat Glass Division, Belcan Tech Services and Glass Processors | Burlington, IA |
91,102 | Direct Power and Water Corp., (DPW), Preformed Line Products, Volt Management Corp., Staffing Solutions, etc | Albuquerque, NM |
91,148D | XPO Logistics Freight, Inc., UPO, 12250 SE Ford Street, Randstad, Inc | Clackamas, OR |
91,148E | Jacobson Warehouse Company, Inc., XPO Logistics, Inc., 7409 North Leadbetter Road | Portland, OR |
91,148F | Jacobson Warehouse Company, Inc., XPO Logistics, Inc., 14310 North Lombard Street | Portland, OR |
91,428 | CSI Compressco Sub, Inc., TETRA Technologies, Inc., Robert Half Professional Staffing Solutions, etc | Oklahoma City, OK |
91,663 | Mississippi Tank & Manufacturing Company, Indiana Division | Hattiesburg, MS |
91,663A | Mississippi Tank & Manufacturing Company, Indiana Division | Vincennes, IN |
91,683 | Pride of The Hills Manufacturing, Inc., CLC, Grace Automation | Killbuck, OH |
91,747 | Beitzel Corporation, Inc., Field Construction Group | Grantsville, MD |
91,747A | Pillar Innovations, LLC, Technicians Group, Beitzel Corporation, Inc | Grantsville, MD |
91,759 | Dynegy Midwest Generation, LLC, Wood River Power Plant | Alton, IL |
91,860 | 3M Purification Inc., 3M Company (MN), 3M Company, Aerotek | Meriden, CT |
91,872 | Liberty Mutual Insurance, Auto Property Damage Adjusters | New Castle, PA |
91,992 | QG Printing III Company, Quad/Graphics, Inc., OneSource Staffing Solutions and Randstad General Part | East Greenville, PA |
92,018 | Computer Sciences Corporation (CSC), Global Infrastructure Services (GIS) Division, etc | Tysons, VA |
92,018A | Computer Sciences Corporation (CSC), Global Infrastructure Services (GIS) Division, etc | Coppell, TX |
92,098 | Caterpillar, Inc., Global Information Services Division, Accenture, VCM Consulting, etc | East Peoria, IL |
92,127 | Bank of America Corporation, Bank of America Corporation, NA | Portland, OR |
92,193 | White Pine Electric Power, LLC, PM Power Group, Inc | White Pine, MI |
92,221 | Wilbur-Ellis Company LLC, Agriculture Division, SelecTemp Employment, etc | Woodburn, OR |
92,241 | Airgas USA, LLC, Royal Oak Facility Division, Airgas, Inc. | Royal Oak, MI |
92,246 | Rowan Companies, Headquarters Division | Houston, TX |
92,253 | Gulf Offshore Logistics, LLC, JNB Operating, LLC, Rec Marine Logistics, LLC, and GOL, LLC | Raceland, LA |
92,316 | Artco Group International, Inc., Artco Steel Corporation | Hannibal, OH |
92,328 | Market Source, Inc., Allegis Group, Commercial, Consumer Electronic Division | Vancouver, WA |
92,339 | MGM Industrial Supply Co., Inc | Ironton, OH |
92,377 | Atlantic Packaging Group, LLC | Norwich, CT |
92,402 | International Business Machines Corporation (IBM), Global Technology Services (GTS), 9L3E/CMT, TekSystems | New York, NY |
92,419 | Instron, Industrial Product Group, Illinois Tool Works, All Seasons Temporaries | Grove City, PA |
92,448A | Warn Industries, Inc., Aftermarket and Commercial Products Division, Express Professionals | Clackamas, OR |
92,452 | Intel Corporation, Advanced Technology Group Inc., Axiom Global Inc., etc | DuPont, WA |
92,454 | R.C. Fabricators, Inc | Hibbing, MN |
92,455 | MCG Plastics Inc | Bay City, MI |
92,463 | Brayton Point Energy, LLC, Dynegy Resource III, LLC, Corestaff | Somerset, MA |
92,495 | Cellu Tissue Corporation—Neenah, d/b/a Clearwater Paper, Consumer Products Division | Neenah, WI |
92,501 | Paoli LLC, HNI Corporation, Pinnacle Staffing | Orleans, IN |
92,529 | National Credit Adjusters, LLC, Fourth Avenue Holdings, LLC | Ottawa, KS |
92,531 | Cablevision of Litchfield, Neptune Holding US Corp. dba Altice USA | Stratford, CT |
92,543 | DBBuilder, Inc | Lynnwood, WA |
92,555 | Qualite Sports Lighting, LLC, Elwood Staffing | Hillsdale, MI |
92,566 | Regal Beloit America, Inc., Durst Division, Regal Beloit Corporation | Clinton, WI |
92,574 | Truvision Services, Inc | Yorkville, IL |
92,596 | Bank of America Corporation, Contact Center, Bank of America Corporation, NA | Utica, NY |
92,603 | IEC Electronics Corporation, Kelly Services and Remedy Intelligent Staffing | Newark, NY |
92,607 | AIG PC Global Services, Inc., Canada and Casualty Claim Setup Division, American International Group, Inc | Olathe, KS |
92,612 | Graphic Arts Center, Cenveo Corporation | Portland, OR |
92,631 | Oceaneering International, Inc., Space Systems Division, Aerotek, Arlectron, B-Squared, etc | Houston, TX |
92,642 | Yanfeng Global Automotive Interiors US 1 LLC, Adient US LLC, Manpower, Malone Staffing Solutions | Northwood, OH |
92,689 | ATC Panels, Inc., Aconcagua Holdings, Inc., Panels Services LLC | Franklin, VA |
92,705 | Manitowoc Cranes, LLC, Manitowac Company, Inc., Aerotek, FlexStaff, Waterstone, etc | Manitowoc, WI |

Determinations Terminating Investigations of Petitions for Trade Adjustment Assistance

After notice of the petitions was published in the Federal Register and on the Department's Web site, as required by Section 221 of the Act (19 U.S.C. 2271), the Department initiated investigations of these petitions.

The following determinations terminating investigations were issued because the petitioner has requested that the petition be withdrawn.

TA-W No. | Subject firm | Location | Impact date
91,344 | Mark TK Welding | Kittanning, PA |
92,266 | Rollins Narrow Fabric, Inc | Pomona, CA |
92,341 | Spectrum Glass | Woodinville, WA |
92,358 | Sykes | Eugene, OR |
92,451 | Atlas Copco Secoroc, LLC | Grand Prairie, TX |
92,565 | Pharmaceutics International, Inc | Hunt Valley, MD |
92,592 | The Button House | New York, NY |
92,595 | Future Concepts LLC | La Verne, CA |
92,601 | Arrow International Inc., Vascular Division, Teleflex Incorporated | Reading, PA |
92,756 | International Business Machines Corporation (IBM), Department W14B, Global Technology Services (GTS)/TSS | Coppell, TX |

The following determinations terminating investigations were issued in cases where the petition regarding the investigation has been deemed invalid.

TA-W No. | Subject firm | Location | Impact date
92,588 | Praxair, Inc. | Leechburg, PA |

The following determinations terminating investigations were issued because the worker group on whose behalf the petition was filed is covered under an existing certification.

TA-W No. | Subject firm | Location | Impact date
91,817 | Veritas Software Corporation, Customer Support Division | Springfield, OR |
91,846 | Sykes Enterprises, Incorporated, Customer Service Operations | Langhorne, PA |
92,196 | Volt Management Corporation, Volt Workforce Solutions Division, Volt Information Science, Caterpillar | Indianapolis, IN |
92,413 | Hewlett Packard Enterprise, ES ITO Midrange Delivery | Tulsa, OK |
92,421 | Xerox Corporation | Rosemont, IL |
92,430 | Entergy Nuclear Operations, Inc., Entergy Corporation, Guidant Group, Inc., RCM Technologies, etc., | Vernon, VT |
92,506 | Weyerhaeuser NR Company, Wood Products Division, Weyerhaeuser Co., LC Staffing Services, etc | Columbia Falls, MT |
92,516 | Print Media LLC, YP Southeast Advertising & Publishing | Tucker, GA |
92,526 | Source Providers Company, Inc., Comprehensive Logistics Company, Inc | Lansing, MI |
92,534 | General Motors Subsystems | Detroit, MI |
92,540 | Customers Bank | New Haven, CT |
92,547 | Saginaw Machine Systems, Inc | Saginaw, MI |
92,553 | Mattel, Inc., Mattel Global Shared Service Solutions (MGSSS), Personnel Resources, etc | East Aurora, NY |
92,616 | Sprint, Customer Service Call Center | Blountville, TN |
92,638 | Sypris Technologies | Louisville, KY |
92,665 | CVG Alabama, LLC, Commercial Vehicle Group, Inc | Piedmont, AL |
92,673 | Merck Sharp & Dohme Corporation, Merck & Co., Inc., Merck Research Laboratories, etc | Kenilworth, NJ |
92,681 | Business Health Solutions and Quality Tools & Abrasives, Rexnord Industries, LLC | Indianapolis, IN |
92,731 | LexisNexis | Colorado Springs, CO |
92,744 | Royal Ingredients | Swedesboro, NJ |
92,758 | Pentair Technical Solutions | Houston, TX |
92,768 | Pacific Gas & Electric Company, Information Technology Department, Agile 1 | San Francisco, CA |
92,827 | Praxair, Inc | Leechburg, PA |
92,897 | International Business Machines Corporation (IBM) | Endicott, NY |

The following determinations terminating investigations were issued because the petitioning group of workers is covered by an earlier petition that is the subject of an ongoing investigation for which a determination has not yet been issued.

TA-W No. | Subject firm | Location | Impact date
91,898 | Intel Corporation | Aloha, OR |
91,902 | Intel Corporation | Hillsboro, OR |
92,082 | Epsilon Data Management | East Greenbush, NY |
92,485 | Symantec Corporation, Springfield Oregon Division | Springfield, OR |
92,792 | Avantor Performance Materials | Phillipsburg, NJ |

The following determinations terminating investigations were issued because the Department issued a negative determination applicable to the petitioning group of workers. No new information or change in circumstances is evident which would result in a reversal of the Department's previous determination.

TA-W No. | Subject firm | Location | Impact date
92,597 | Computer Science Corporation | Coppell, TX |

I hereby certify that the aforementioned determinations were issued during the period of January 30, 2017 through June 2, 2017. These determinations are available on the Department's Web site https://www.doleta.gov/tradeact/taa/taa_search_form.cfm under the searchable listing determinations or by calling the Office of Trade Adjustment Assistance toll free at 888-365-6822.

Signed at Washington DC this 14th day of June 2017.
Hope D. Kinglock,
Certifying Officer, Office of Trade Adjustment Assistance.

[FR Doc. 2017-13416 Filed 6-26-17; 8:45 am]

BILLING CODE 4510-FN-P